DEPARTMENT OF AGRICULTURE

Forest Service

Kemmerer Ranger District; Bridger-Teton National Forest; Wyoming; Kemmerer Grazing and Rangeland Vegetation Management Project

AGENCY: Forest Service, USDA.

ACTION: Revised Notice of Intent to prepare an Environmental Impact Statement.

SUMMARY: The Bridger-Teton National Forest will prepare an Environmental Impact Statement (EIS) to analyze the effects of continued authorization of grazing on 17 sheep allotments on the Kemmerer Ranger District in southwest Wyoming.

DATES: Although comments are accepted at any time, two designated comment periods concerning the scope of the analysis were established: June 26, 2017 through July 26, 2017 and November 17, 2008 through January 2, 2009. Comments will be accepted for an additional 30 days after October 2, 2017. The Draft EIS is expected in June 2018. Following its release, an opportunity to comment on the Draft EIS will be provided. The Final EIS is expected June 2019.

ADDRESSES: Send written comments to Kemmerer Ranger District, 308 U.S. Highway 189 North, Kemmerer, WY 83101. Comments may also be sent via email to comments-intermtn-bridger-teton-kemmerer@fs.fed.us, or via facsimile to 307-828-5135. Please put “Comments on Kemmerer Grazing” in the subject line.

It is important that reviewers provide their comments at such times and in such a way that they are useful to the Agency's preparation of the EIS. Therefore, comments should be provided prior to the close of the comment period and should clearly articulate the reviewer's concerns and contentions.

FOR FURTHER INFORMATION CONTACT: R. Aaron Zobell, Rangeland Management Specialist, Kemmerer Ranger District, 307-828-5100, richardazobell@fs.fed.us. Individuals who use telecommunication devices for the deaf (TDD) may call the Federal Information Relay Service (FIRS) at 1-800-877-8339 between 8 a.m. and 8 p.m., Eastern Time, Monday through Friday.

Ongoing information related to the proposed project can be found on the the project Web page at: http://www.fs.usda.gov/project/?project=26874.

SUPPLEMENTARY INFORMATION:

Purpose and Need for Action

A Notice of Intent (NOI) to prepare an EIS was published on November 17, 2008 (73 FR 67835) and April 9, 2010 (75 FR 10144). This NOI updates and supplements the previously published NOI to prepare an EIS and adds one additional allotment, Trespass Creek Allotment. The project area encompasses 181,227 acres of National Forest System lands within Lincoln County of western Wyoming. The 17 allotments included in the analysis are: Aspen Springs; Basin Creek; Buckskin Knoll; Devils Hole; Elk Creek; Green Knoll; Indian Creek; Lake Alice; Lake Mountain; Lower Salt Creek; Pole Creek; Porcupine Creek; Sams-Allen Creek; Smiths Fork; South Fontenelle; Spruce Creek; and Trespass Creek allotments. The analysis contained in the EIS will be used by the responsible official to decide whether or not, and if so, how to authorize livestock grazing and manage rangeland vegetation within the project area.

The purpose of the Kemmerer Grazing and Rangeland Vegetation Management project is to authorize livestock grazing in a manner that will maintain desired conditions or improve resource conditions towards desired conditions. There is a need for continued livestock grazing on the Bridger-Teton National Forest to meet the direction provided by the Bridger Teton Land and Resource Management Plan (Forest Plan) to contribute to the prosperity of communities (Goal 1.1) and provide forage for about 260,000 animal unit months of livestock grazing annually (Objective 1.1(h)). There is also a need to avoid unacceptable effects from livestock use as outlined in the Forest Plan (Goal 4.7) which directs that grazing use of the National Forest sustain or improve overall range, soils, water, wildlife, and recreation values or experiences. The difference between the existing condition and desired condition in terms of livestock grazing and resource conditions describes the need for federal action. Desired conditions are defined by the Forest Plan, Forest Service Manual, and applicable laws. This effort is undertaken to comply with the 1995 Rescissions Act (Pub. L. 104-19).

Proposed Action

The proposed action is to authorize livestock grazing on 17 allotments within the project area (Aspen Springs; Basin Creek; Buckskin Knoll; Devils Hole; Elk Creek; Green Knoll; Indian Creek; Lake Alice; Lake Mountain; Lower Salt Creek; Pole Creek; Porcupine Creek; Sams-Allen Creek; Smiths Fork; South Fontenelle; Spruce Creek; and Trespass Creek allotments) with updated domestic sheep grazing and rangeland vegetation management direction. Desired conditions are identified. Grazing practices addressing frequency of grazing and rest from grazing would be guided by the amount and diversity of vegetation given the capability of soils, as well as indicators of soil quality such as amount of ground cover, sign of active erosion and healing of headcuts. Other best management practices addressing the timing, duration, and in specific settings the intensity, of use are identified. Adaptive management is part of the proposed action. Identified are: Criteria to guide management, pre-determined optional courses of action used to make adaptive changes in management over time, and the focused monitoring which provides the basis for adjusting management to attain desired resource conditions. Allotment management plans would become part of a term grazing permit and contain the livestock grazing and rangeland vegetation management direction identified by the responsible official's decision.

Possible Alternatives

To date the Bridger-Teton National Forest has identified two alternatives to the proposed action: Alternative A—No Domestic Livestock Grazing, and Alternative B—Continuation of Current Livestock Management. Alternative A would discontinue sheep grazing on the 17 allotments over the next five years with the exception of sheep trailing to other allotments on the Bridger-Teton National Forest and the Caribou National Forest. This alternative will demonstrate the effects of eliminating livestock grazing on the environment and more clearly illustrate the potential effects of implementing any grazing and rangeland vegetation management alternative. Alternative B would continue current grazing management practices including annual adjustments in authorized livestock numbers and season of use, as needed.

Responsible Official

Kemmerer District Ranger Adrienne Holcomb

Nature of the Decision To Be Made

Whether domestic sheep grazing should be allowed to continue on all, part, or none of the 17 allotments within the project area; and if so, under what management strategy.

Preliminary Issues

Preliminary issues associated with the proposed action include:

(1) The amount and diversity of vegetation in some locations is less than the current capability of soils;

(2) Sediment delivery to drainages supporting fisheries, and retention of precipitation on uplands, as evidenced by headcutting/gullies and sign of active erosion; and

(3) Wildlife values within some aspen stands are minimized by a lack of diverse aspen age classes; in some locations the diversity of herbaceous and shrub species in the understory is also diminished.

Permits or Licenses Required

If a decision is made to authorize regularly scheduled livestock grazing, such grazing must be authorized under a term grazing permit.

Scoping Process

Pursuant to 36 CFR 218.7(a)(2), this proposed project implements the land management plan and is subject to § 218 subparts A and B. Those who submit specific written comments regarding the proposed project during this scoping period or other designated opportunity for public comment in accordance with § 218.5(a) are eligible to object. Issues raised in objections must be based on previously submitted timely, specific written comments regarding the proposed project unless based on new information arising after the designated comment opportunities.

Specific written comments as defined by § 218.2 should be within the scope of the proposed action, have a direct relationship to the proposed action, and must include supporting reasons for the responsible official to consider. It is the responsibility of all individuals and organizations to ensure that their comments are received in a timely manner.

Comments received, including names and addresses of those who comment, will be considered part of the public record on these proposed actions and will be available for public inspection. Comments submitted anonymously will be accepted and considered; however, anonymous comments will not provide the agency with the ability to provide the respondent with subsequent environmental documents nor provide the respondent with standing to object the subsequent draft decision. Only those who respond to the request for comments or request to be placed on the mailing list will be added to the mailing list for this project.

An objection period will follow the regulation found in § 218.7. For objection eligibility (§ 218.5), only those who have submitted timely, specific written comments during any designated opportunity for public comment may file an objection.

Issues to be raised in objections must be based on previously submitted specific written comments regarding the proposed project and attributed to the objector, unless the issue is based on new information that arose after a designated opportunity to comment (§ 218.8(c)).

Dated: September 12, 2017.
Jeanne M. Higgins,
Acting Associate Deputy Chief, National Forest System.

[FR Doc. 2017-21007 Filed 9-29-17; 8:45 am]

BILLING CODE 3411-15-P